DEPARTMENT OF DEFENSE

Office of the Secretary

[Transmittal No. 19-0C]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0C with attached Policy Justification.

Dated: June 7, 2019.
Aaron T. Siegel,
Alternate OSD Federal Register Liaison Officer, Department of Defense.

BILLING CODE 5001-06-P

BILLING CODE 5001-06-C

Transmittal No. 19-0C

REPORT OF ENHANCEMENT OR UPGRADE OF SENSITIVITY OF TECHNOLOGY OR CAPABILITY (SEC. 36(B)(5)(C), AECA)

(i) Purchaser: Taipei Economic and Cultural Representative Office (TECRO)

(ii) Sec. 36(b)(1), AECA Transmittal No.: 16-73

Date: June 29, 2017

Military Department: Air Force

(iii) Description: On June 29, 2017, Congress was notified by Congressional certification transmittal number 16-73, of the possible sale under Section 36(b)(1) of the Arms Export Control Act of fifty-six (56) AGM-154C JSOW Air-to-Ground Missiles. This request also includes: JSOW integration, captive flight vehicles, dummy training missiles, missile containers, spare and repair parts, support and test equipment, Joint Mission Planning System updates, publications and technical documentation, personnel training and training equipment, U.S. Government and contractor engineering, technical and logistics support services, and other related elements of logistical and program support. The estimated total cost was $185.5 million. Major Defense Equipment (MDE) constituted $95.5 million of this total.

This transmittal reports a net increase in cost of $49.9 million to the previously notified Congressional certification transmittal number 16-73 due to an increase in the cost of JSOW missiles and support equipment. The revised MDE value is $135.4 million and the revised total case value is $235.4 million.

(iv) Significance: This notification reflects a price increase for JSOW Missiles and support. There is an increase in MDE value of $39.9 million due to the increased cost of JSOW and an additional increase of $10 million for JSOW support equipment.

(v) Justification: This proposed sale serves U.S. national, economic, and security interests by supporting the recipient's continuing efforts to modernize its armed forces and enhance its defensive capability. The proposed sale will help improve the security of the recipient and assist in maintaining political stability, military balance, and economic progress within the region.

(vi) Sensitivity of Technology: The statement contained in the original AECA 36(b)(1) transmittal applies to the MDE items reported here.

(vii) Date Report Delivered to Congress: April 15, 2019

[FR Doc. 2019-12395 Filed 6-11-19; 8:45 am]

BILLING CODE 5001-06-P